NATIONAL SCIENCE FOUNDATION

Advisory Committee for International Science and Engineering; Notice of Meeting

In accordance with the Federal Advisory Committee Act (Pub. L. 92-463, as amended), the National Science Foundation announces the following meeting:

Name: Advisory Committee for International Science and Engineering (25104).

Date and Time: March 19, 2012, 8:30 a.m.-5 p.m. March 20, 2012, 8:30 a.m.-noon.

Place: National Science Foundation, 4201 Wilson Blvd., Room Stafford II-595, Arlington, VA 22230.

Type of Meeting: Open.

Contact Person: Robert Webber, Office of International Science and Engineering, National Science Foundation, 4201 Wilson Blvd., Arlington, VA 22230, Telephone: 703-292-7569. If you are attending the meeting and need access to the NSF, please contact the individual listed above so your name may be added to the building access list.

Purpose of Meeting: To provide advice and recommendations concerning support for research, education and related activities involving the U.S. science and engineering community working in a global context, as well as strategic efforts to promote a more effective NSF role in international science and engineering.

Agenda: Review NSF international activities, and discuss and develop recommendations to transform international research and educations partnerships.

Dated: March 1, 2012.
Susanne Bolton,
Committee Management Officer.

[FR Doc. 2012-5399 Filed 3-5-12; 8:45 am]

BILLING CODE 7555-01-P